DEPARTMENT OF TRANSPORTATION

Federal Aviation Administration

Notice of Intent To Rule on Request To Release Airport Property at the Dubois Regional Airport, Reynoldsville, PA

AGENCY: Federal Aviation Administration (FAA) DOT.

ACTION: Notice of request to release airport property.

SUMMARY: The FAA proposes to rule and invite public comment on the release of land at the Dubois Regional Airport, Reynoldsville, Pennsylvania under the provisions of Section 47125(a) of Title 49 United States Code (U.S.C.).

DATES: Comments must be received on or before May 31, 2011.

ADDRESSES: Comments on this application may be mailed or delivered to the following address: Robert W. Shaffer, Manager, Dubois Regional Airport, 377 Aviation Way, Reynoldsville, PA 15851; and at the FAA Harrisburg Airports District Office: Lori K. Pagnanelli, Manager, Harrisburg Airports District Office, 3905 Hartzdale Dr., Suite 508, Camp Hill, PA 17011.

FOR FURTHER INFORMATION CONTACT: Lori Ledebohm, Community Planner, Harrisburg Airports District Office location listed above.

The request to release property may be reviewed in person at this same location.

SUPPLEMENTARY INFORMATION: The FAA invites public comment on the request to release property at the Dubois Regional Airport under the provisions of Section 47125(a) of Title 49 U.S.C. On April 20, 2011, the FAA determined that the request to release property at the Dubois Regional Airport (DUJ), Pennsylvania submitted by the Clearfield-Jefferson Counties Regional Airport Authority (Authority) met the procedural requirements.

The following is a brief overview of the request:

The Authority requests the release of real property totaling 5.01 acres, of non-aeronautical airport property to AVERA Companies of Houston, TX. The land was originally purchased with Federal funds in 1988, AIP Grant 3-42-0023-05-88. The undeveloped property is located on the southeast corner within the Air Commerce Park, which is directly north of the main DuBois Regional Airport parking lot. AVERA Companies is proposing to develop the property and erect a building. The subject land does not serve an aeronautical purpose and is not needed for airport development, as shown on the Airport Layout Plan. All proceeds from the sale of property are to be used for the capital development of the airport. Fair Market Value (FMV) will be obtained from the land sale and reinvested back into an AIP eligible project at the airport.

Any person may inspect the request by appointment at the FAA office address listed above. Interested persons are invited to comment on the proposed release from obligations. All comments will be considered by the FAA to the extent practicable.

Issued in Camp Hill, Pennsylvania, on April 20, 2011.
Lori K. Pagnanelli,
Manager, Harrisburg Airports District Office.

[FR Doc. 2011-10236 Filed 4-27-11; 8:45 am]

BILLING CODE 4910-13-P